SMALL BUSINESS ADMINISTRATION

Public Federal Regulatory Enforcement Fairness Hearing; Region X Regulatory Fairness Board

The U.S. Small Business Administration (SBA) Region X Regulatory Fairness Board and the SBA Office of the National Ombudsman will hold a public hearing on Wednesday, July 20, 2005 at 9 a.m. The meeting will take place at the WSU Health Sciences Building, room 110A, 310 N. Riverpoint Boulevard, Spokane, WA 99210-1495, to receive comments and testimony from small business owners, small government entities, and small non-profit organizations concerning regulatory enforcement and compliance actions taken by federal agencies.

Anyone wishing to attend or to make a presentation must contact Patricia Jordan in writing or by fax, in order to be put on the agenda. Patricia Jordan, Public Information Officer, SBA Seattle District Office, Spokane Branch Office, 801 West Riverside Avenue, Suite 200, Spokane, WA 99201-0908, phone (509) 353-2879, fax (509) 353-2829, e-mail: patricia.jordan@sba.gov.

For more information, see our Web site at http://www.sba.gov/ombudsman.

Matthew K. Becker,
Committee Management Officer.

[FR Doc. 05-13902 Filed 7-14-05; 8:45 am]

BILLING CODE 8025-01-P